NATIONAL SCIENCE FOUNDATION

Agency Information Collection Activities: Proposed Collection; Comment Request

AGENCY: National Science Foundation.

ACTION: Notice.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than 1 year.

DATES: Written comments on this notice must be received by November 14, 2005 to be assured of consideration. Comments received after that date will be considered to the extent practicable.

FOR FURTHER INFORMATION CONTACT: Suzanne H. Plimpton, Reports Clearance Officer, National Science Foundation, 4201 Wilson Boulevard, Suite 295, Arlington, Virginia 22230; telephone (703) 292-7556; or sent e-mail to splimpto@nsf.gov. Individuals who use a telecommunications device for the deaf (TDD) may call the Federal Information Relay Service (FIRS) at 1-800-877-8339 between 8 a.m. and 8 p.m., eastern time, Monday through Friday. You may obtain a copy of the data collection instrument and instructions from Ms. Plimpton.

SUPPLEMENTARY INFORMATION: Title of Collection: Follow-on Study: Evaluation of the Research Experiences for Teachers (RET) Program, Participants in FY 2004 and FY 2005 Awards.

OMB Number: 3145-0198.

Expiration Date of Approval: July 31, 2007.

Type of request: Renewal.

Abstract: Proposed Project: The Directorate for Engineering (ENG) initiated the Research Experiences for Teachers (RET) Supplements activity in FY 2001 to be add-ons to active awards funded by ENG programs. The intent was to build on the popular NSF-wide Research Experiences for Undergraduates (REU) Supplements activity by providing opportunities for K-12 teachers to conduct hands-on experiences in the laboratories/facilities of ENG-funded researchers. The assumption was that, like undergraduates, the teachers could benefit from involvement in research and direct exposure to the scientific method, and they could transfer what they learned into classroom activities. Typically the supplements supported one or two teachers. Beginning in FY 2002, ENG has also funded RET Site awards, which are similar to REU Sites in that NSF awards fund groups of teachers to work with faculty members at the same institution and to engage in group activities related to the research. In 2003, community college faculty became eligible as participants in RET awards. By design, all RET awards are made to the university in whose research the teachers participate.

The initial study of the program just concluded focused on participants in ENG-funded RET Supplement and Site awards in 2001 through 2003. That study resulted in modifications to the RET program announcement for the FY 200 competition. The proposed follow-up study will be very similar to the initial study and focus on teachers who participated in RET during 2004 and 2005. The follow-on study will examine how RET experiences have affected participating teachers' subsequent teaching techniques, attitudes about teaching, and professional development activities. Outcomes and impacts beyond the teachers' own classrooms, such as knowledge transfer activities, formal partnerships formed between the RET Principal Investigators (PIs)—the awardees—and the teachers' school system/district will also be examined. The first survey found that follow-up interaction between PIs and teachers were strongly related to reported positive effects. Accordingly, the follow-up study will explore this aspect of the experience in somewhat greater detail that was done in the first survey. The survey data collection will be done on the World Wide Web as before.

Estimate of Burden: Public reporting burden for this collection of information is estimated to average 40 minutes per response.

Respondents: Individuals.

Estimated Number of Responses per Form: 600.

Estimated Total Annual Burden on Respondents: 400 hours (600 respondents at 40 minutes per response).

Frequency of Response: One time.

Dated: September 9, 2005.
Suzanne H. Plimpton,
Reports Clearance Officer, National Science Foundation.

[FR Doc. 05-18298 Filed 9-14-05; 8:45 am]

BILLING CODE 7555-01-M